DEPARTMENT OF ENERGY

Environmental Management Site-Specific Advisory Board Chairs

AGENCY: Office of Environmental Management, Department of Energy.

ACTION: Notice of open meeting.

SUMMARY: This notice announces an in-person/virtual hybrid open meeting of the Environmental Management Site-Specific Advisory Board (EM SSAB) Chairs. The Federal Advisory Committee Act requires that public notice of this meeting be announced in the Federal Register.

DATES: Wednesday, September 7, 2022; 8 a.m.-5 p.m. MDT.

ADDRESSES: This hybrid meeting will be open to the public virtually (observation only). To attend, please contact Alyssa Petit by email, Alyssa.Petit@em.doe.gov, no later than 5:00 p.m. EDT on Monday, September 5, 2022.

For EM SSAB Chairs, Vice-Chairs and staff, the meeting will be held, strictly following COVID-19 precautionary measures, at: La Fonda on the Plaza, La Terraza Meeting Room, 100 East San Francisco Street, Santa Fe, New Mexico 87501.

Attendees should check the EM SSAB website (https://www.energy.gov/em/em-site-specific-advisory-board) for any meeting format changes due to COVID-19 protocols.

FOR FURTHER INFORMATION CONTACT: Alyssa Petit, EM SSAB Federal Coordinator. U.S. Department of Energy, 1000 Independence Avenue SW, Washington, DC 20585. Telephone: (202) 586-7627; Email: Alyssa.Petit@em.doe.gov.

SUPPLEMENTARY INFORMATION:

Purpose of the Board: The purpose of the Board is to make recommendations to DOE-EM and site management in the areas of environmental restoration, waste management, and related activities.

Tentative Agenda Topics

Wednesday, September 7, 2022

• EM Update

• Chairs Round Robin

• Justice40 Initiative

• Legacy Management Overview

• Public Comment

• Contracting Update

• EM Packaging and Transportation

• Board Business/Open Discussion

Public Participation: As a COVID-19 precaution, the meeting will be open to the public virtually only. Attendees should register for attendance by sending an email to Alyssa.Petit@em.doe.gov no later than 5 p.m. ET on Wednesday, August 31, 2022. The EM SSAB welcomes the attendance of the public at its advisory committee meetings and will make every effort to accommodate persons with physical disabilities or special needs. If you require special accommodations due to a disability, please note this when registering. Public comments will be accepted via email for virtual participants prior to and after the meeting. Comments received in writing no later than 5 p.m. EDT on Wednesday, August 31, 2022 will be read aloud during the meeting. Comments will also be accepted after the meeting by no later than 5 p.m. EDT on Wednesday, September 14, 2022 to be included in the official meeting record. Please send comments to Alyssa Petit at Alyssa.Petit@em.doe.gov. The Designated Federal Officer is empowered to conduct the meeting in a fashion that will facilitate the orderly conduct of business.

Minutes: Minutes will also be available at the following website: https://energy.gov/em/listings/chairs-meetings.

Signed in Washington, DC, on August 10, 2022.
LaTanya Butler,
Deputy Committee Management Officer.

[FR Doc. 2022-17588 Filed 8-15-22; 8:45 am]

BILLING CODE 6450-01-P